ENVIRONMENTAL PROTECTION AGENCY

[EPA-HQ-OAR-2015-0533; FRL-9936-52-OEI]

Agency Information Collection Activities; Submission to OMB for Review and Approval; Comment Request; Servicing of Motor Vehicle Air Conditioners (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 2, 2015.

ADDRESSES: Submit your comments, referencing Docket ID No. EPA-HQ-OAR-2015-0533 to (1) EPA online using www.regulations.gov (our preferred method), by email to a-and-r-docket@epa.gov, or by mail to: EPA Docket Center, Environmental Protection Agency, Mail Code 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Rebecca von dem Hagen, Environmental Protection Agency, Stratospheric Protection Division, Office of Atmospheric Programs, MC 6205J, 1200 Pennsylvania Ave. NW., Washington, DC 20460; telephone number: (202) 343-9445; fax number: (202) 343-2362; email address: vondemhagen.rebecca@epa.gov.

SUPPLEMENTARY INFORMATION: EPA has submitted the following ICR to OMB for review and approval according to the procedures prescribed in 5 CFR 1320.12. On August 13, 2015 (40 FR 48529), EPA sought comments on this ICR pursuant to 5 CFR 1320.8(d). EPA received one (1) comment during the comment period, which is addressed in the ICR supporting statement. Any additional comments on this ICR should be submitted to EPA and OMB within 30 days of this notice.

EPA has established a public docket for this ICR, which is available for online viewing at www.regulations.gov, or in person viewing at the Air Docket in the EPA Docket Center (EPA/DC), EPA West, Room 3334, 1301 Constitution Ave. NW., Washington, DC.

Use EPA's electronic docket and comment system at www.regulations.gov, to submit or view public comments, access the index listing of the contents of the docket, and to access those documents in the docket that are available electronically. Please note that EPA's policy is that public comments, whether submitted electronically or in paper, will be made available for public viewing at www.regulations.gov as EPA receives them and without change, unless the comment contains copyrighted material, confidential business information (CBI), or other information whose public disclosure is restricted by statute.

Title: Servicing of Motor Vehicle Air Conditioners.

ICR numbers: EPA ICR No. 1617.08, OMB Control No. 2060-0247.

ICR Status: This ICR is scheduled to expire on October 31, 2015. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 609 of the Clean Air Act Amendments of 1990 (Act) provides general guidelines for the recovery and recycling of motor vehicle air conditioners. It states that “no person repairing or servicing motor vehicles for consideration may perform any service on a motor vehicle air conditioner involving the refrigerant for such air conditioner without properly using approved refrigerant recovery and/or recovery and recycling equipment (hereafter referred to as “refrigerant handling equipment”) and no such person may perform such service unless such person has been properly trained and certified.” In 1992, EPA developed regulations under section 609 that were published in 57 FR 31240, and codified at 40 CFR Subpart B (Section 82.30 et seq.). The information required to be collected under the Section 609 regulations is: Approved refrigerant handling equipment; approved independent standards testing organizations; technician training and certification; and certification, reporting and recordkeeping.

Burden Statement: The annual public reporting and recordkeeping burden for this collection of information is estimated to average 5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The following is a list of NAICS codes for organizations potentially affected by the information requirements covered under this ICR. It is meant to include any establishment that may service or maintain motor vehicle air conditioners. 4411 Automobile Dealers; 4413 Automotive Parts, Accessories, and Tire Stores; 44711 Gasoline Stations with Convenience Stores; 45299 All Other General Merchandise Stores; 811198 All Other Automotive Repair and Maintenance; Other affected groups include: Independent Standards Testing Organizations; Organizations with Technician Certification Programs.

Estimated Number of Respondents: 50,318.

Frequency of Response: On occasion, biennially, only once.

Estimated Total Annual Hour Burden: 4,164.

Estimated Total Annual Cost: $224,619.62, includes $0 annualized capital or O&M costs.

Changes in the Estimates: There is a decrease of 359 hours in g the total estimated burden currently identified in the OMB Inventory of Approved ICR Burdens. This decrease is due to an adjustment in the calculation to estimate the burden resulting from required submissions for new equipment certifications.

Courtney Kerwin,
Acting Director, Collection Strategies Division.

[FR Doc. 2015-27849 Filed 10-30-15; 8:45 am]

BILLING CODE 6560-50-P